DEPARTMENT OF HEALTH AND HUMAN SERVICES

Centers for Disease Control and Prevention

[Program Announcement 01070]

Urban Commensal Rodent Control and Environmental Improvement and Safety Project; Notice of Availability of Funds

A. Purpose

The Centers for Disease Control and Prevention (CDC) announces the availability of fiscal year (FY) 2001 funds for a cooperative agreement program to undertake an Urban Commensal Rodent Control and Environmental Improvement and Safety Project. This project addresses the “Healthy People 2010” focus areas of: (1) Environmental Health, (2) Public Health Infrastructure, (3) Educational and Community-Based Programs, and (4) Injury and Violence Prevention. The purpose of this project is to demonstrate that a comprehensive approach to eliminating commensal rodent infestation also will prevent, eliminate, or reduce the consequences of diseases and injuries that are associated with unhealthy home environments; and it will serve as a model to stimulate the development of similar programs at state and local levels.

B. Eligible Applicants

Applications will only be accepted from the top five Standard Metropolitan Statistical Areas (SMSA)/largest cities (i.e., New York City, Los Angeles, Chicago, Houston, and Philadelphia). Eligible applicants in these SMSA are local health departments or their bona fide agents. Competition has been limited to the nation's five largest cities where: (1) commensal rodent infestation and environmental conditions are generally regarded as the most severe (e.g., densely populated areas, poverty, old deteriorated or unsafe housing, exposed garbage and unapproved refuse storage, inadequate municipal services, etc.); and (2) a target area can be readily identified that consists of up to 50-contiguous residential blocks with high-population density, significant commensal rodent infestation, and risk factors that support infestation and promote the spread of disease and injury. Applicants must be able to substantiate that at least six percent of the premises in the selected target area have active exterior and/or interior rat/mouse infestation based on a random or comprehensive premises survey.

Note: Public Law 104-65 states that an organization described in section 501(c)(4) of the Internal Revenue Code of 1986 that engages in lobbying activities is not eligible to receive Federal funds constituting an award, grant, cooperative agreement, contract, loan, or any other form.

Definition: For the purpose of this announcement, commensal rodents specifically refer to the Norway rat (Rattus norvegicus), roof rat (Rattus rattus), and house mouse (Mus musculus).

C. Availability of Funds

Approximately $500,000 is available in FY 2001 to fund two awards. It is expected that the award will begin on or about September 30, 2001, and will be made for a 12-month budget period within a project period of up to three years. Funding estimates may change.

Continuation awards within an approved project period will be made on the basis of satisfactory progress to reduce commensal rodent infestation and environmental hazards and deficiencies in the target area and the availability of funds.

D. Program Requirements

In conducting activities to achieve the purpose of this program, the recipient will be responsible for the activities under 1. (Recipient Activities), and CDC will be responsible for the activities under item 2. (CDC Activities).

1. Recipient Activities:

a. Train, where necessary, health department staff and others who are responsible for implementing and carrying out project activities;

b. Educate residents on the principles of environmental public health, including sanitation and safety;

c. Conduct and coordinate intervention activities with other community-based agencies and organizations (e.g., sanitation departments, local housing authorities, fire departments) that focus on reducing commensal rodent infestation and environmental hazards and deficiencies in the target area;

d. Conduct and analyze the results of semi-annual premises surveys of the target area to measure the effect of project activities on reducing commensal rodent infestation (including rat bites); environmental hazards and deficiencies such as the lack of smoke alarms and fall potentials that impact on the health and safety of target area residents;

e. Evaluate the impact of target area interventions to eliminate commensal rodent infestation and environmental hazards and deficiencies; and

f. Disseminate findings.

2. CDC Activities:

a. Provide technical consultation on data collection and management, and assist, as appropriate, in the analysis of data on the prevalence of commensal rodent infestation and environmental hazards and deficiencies in the target area; and

b. Assist, if requested, in identifying approaches to eliminate identified environmental hazards and deficiencies.

E. Application Content

Use the information in the Program Requirements, Other Requirements, and Evaluation Criteria sections to develop the application content. The application will be evaluated on the Evaluation Criteria listed, so it is important to follow them in laying out the program plan. The narrative should be no more than 30 double-spaced pages, printed on one side, with one-inch margins, and no more than a 12 point Courier font. Number each page consecutively and provide a complete table of contents. The total number of pages should not exceed 60, including the appendix. The application must be submitted unstapled and unbound. In developing the application, the applicant must also include a one-page, double-spaced abstract that describes the project and substantiates that a comprehensive or random premises survey of the target area was conducted that documents a premises prevalence rate for rodent (rat and/or mouse) infestation of at least six percent. It should be placed before the budget and narrative sections.

The application should:

1. Describe the applicant's agency and its position within the governmental structure;

2. Describe how the project will be administered, including job descriptions for all project positions and the curriculum vitae of all key administrative staff;

3. Provide copies of codes, ordinances, and regulations pertinent to achieving the short-and long-term objectives of the demonstration project;

4. Provide data that support the reasons for selecting the target area (e.g., data on deteriorated and dilapidated housing, rat and mouse complaints, rat bites, premises prevalence rates for rodent infestation and related environmental deficiencies); and

5. The application should contain a project plan that includes short-and long-range objectives for the target area. This will require that a random or premises-by-premises survey of the target area be conducted. Survey summary sheets that document at least a six percent rodent infestation rate should be included with the application. The project plan also should describe those activities designed to improve the integration of services into a comprehensive environmental improvement program.

The project plan, should incorporate an “attack” and “maintenance” concept (see definitions in addendum), and include a plan of action that is specific in terms of:

(a) the period of time, types of activities, and resources required to achieve maintenance; and

(b) activities and resources required to preserve a maintenance level.

It should take into account:

(a) size of the population;

(b) the number of blocks; and

(c) the extent of commensal rodent infestation and environmental hazards and deficiencies.

The plan should be based on:

(1) the nature of the commensal rodent infestation (e.g., rats versus mice and interior versus exterior infestation); and

(2) premises prevalence rates for commensal rodent infestation and environmental hazards and deficiencies, and include the timetable to move blocks in the target area from a pre-attack phase, through attack and maintenance phases, to a maintenance level.

F. Submission and Deadline

Letter of Intent (LOI)

Your letter of intent should be submitted on or before June 1, 2001, to the Grants Management Specialist identified in the “Where to Obtain Additional Information” section of this announcement.

Application

Submit the original and two copies of PHS 5161-1 (OMB Number 0937-0189). Forms are available at the following Internet address: http://www.cdc.gov or in the application kit. On or before July 2, 2001, submit the application to the Grants Management Specialist identified in the “Where to Obtain Additional Information” section of the application.

Deadline: Applications shall be considered as meeting the deadline if they are either: (a) Received on or before the deadline date; or (b) sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated individually against the following criteria by an independent review group appointed by CDC.

1. Background and Understanding of the Problem (15 points)

a. The extent to which the applicant understands the public health, social, and economic consequences of urban commensal rodent infestation and the environmental factors that influence infestation;

b. The extent to which the applicant describes the target area and is able to document the magnitude of the commensal rodent problem, environmental hazards and deficiencies, and their impact on target area residents;

c. The extent to which the applicant documents current commensal rodent control activities in the target area and its experience in addressing the problem and its causal conditions.

d. The extent to which the applicant provides evidence of its organizational structure and capacity to collect and analyze data that describes the current problem and measures progress in reducing commensal rodent infestation and environmental hazards and deficiencies in the target area.

2. Objectives (15 points)

The extent to which the applicant has developed sound, feasible objectives that are consistent with the activities described in the project plan, and are specific, measurable, and time-framed.

3. Project Plan (30 points)

a. The extent to which the applicant provides evidence of its: (1) Ability to collect and analyze target area data and prepare reports of findings; (2) ability to accurately assess intervention costs; and (3) provide evidence of effective and well-defined relationships within the health department structure and with other governmental components and community-based organizations (CBOs) to ensure identified environmental hazards and deficiencies in the target area are appropriately addressed.

b. The extent to which the project plan takes into account all of the elements of a comprehensive program (see addendum).

c. The extent to which the applicant describes the specific activities and methods that are proposed to achieve each of the program's objectives. The commitment of local resources to sustain progress beyond expiration of Federal funding also should be addressed.

4. Coordination and Collaboration (15 points)

a. The extent to which the applicant describes the relationship between the health department program and other health department components, other government agencies, academia, and CBOs and is supported by letters, memoranda of agreement, and other documented evidence in the appendix.

b. The extent to which the applicant provides evidence of collaboration and coordination between the health department program and other health department components, other government agencies, academia, and CBOs to achieve the objectives of the project.

5. Project Management and Staffing (15 points)

a. The extent to which the applicant documents skills and experience of key health department staff, including staff of collaborating agencies and organizations to carry out environmental public health programs, and specifically, urban commensal rodent control programs.

b. The extent to which the applicant describes the allocation and roles of staff and devotes time to the activities described in the project plan.

6. Program Evaluation (10 points)

The extent to which the applicant proposes to measure the overall impact of project. The plan should describe the methods used to evaluate the impact of project activities on commensal rodent infestation and environmental hazards and deficiencies in the target area, and on environmental public health practices and polices.

7. Budget Justification (not scored)

The extent to which the budget is clearly explained, adequately justified, and is reasonable and consistent with the stated objectives and planned activities. Note: Please include any in-kind support for the project.

H. Other Requirements

Technical Reporting Requirements

Provide CDC with the original plus two copies of:

1. Semi-annual progress reports which are due within 30 days of the end of each six-month reporting period;

2. The financial status report which is due no more than 90 days after the end of the budget period; and

3. The final financial and performance reports which are due no more than 90 days after the end of the project period. Send all reports to the Grants Management Specialist identified in the “Where to Obtain Additional Information” section of this announcement.

The following additional requirements are applicable to this project. For a complete description of each, see Attachment I in the application kit.

AR-7 Executive Order 12372 Review

AR-9 Paperwork Reduction Act Requirements

AR-10 Smoke-Free Workplace Requirements

AR-11 Healthy People 2010

AR-12 Lobbying Restrictions

I. Authority and Catalog of Federal Domestic Assistance Number

This program is authorized under Sections 301 and 317 of the Public Health Service Act, [42 U.S.C. Sections 241 and 247b]. The Catalog of Federal Domestic Assistance number is 93.283.

J. Where To Obtain Additional Information

This and other CDC announcements can be found on the CDC home page Internet address: http://www.cdc.gov by clicking on “Funding” then “Grants and Cooperative Agreements.”

To obtain additional information, contact: Virginia Hall-Broadnax, Grants Management Specialist, Grants Management Branch, Procurement and Grants Office, Centers for Disease Control and Prevention, Mailstop E13—2920 Brandywine Road, Suite 3000, Atlanta, GA 30341-4146, Telephone number: (770) 488-2710, E-mail address: vdh2@cdc.gov.

For program technical assistance, contact: Jerry M. Hershovitz, Assistant to the Director for Program Development, Division of Emergency and Environmental Health Services, National Center for Environmental Health, Centers for Disease Control and Prevention, Mailstop F-30—4770 Buford Highway, NE, Atlanta, Georgia 30341-2724, Telephone: (770) 488-4542, E-mail: jmh6@cdc.gov.

Dated: May 2, 2001.
John L. Williams,
Director, Procurement and Grants Office, Centers for Disease Control and Prevention (CDC).

[FR Doc. 01-11506 Filed 5-7-01; 8:45 am]

BILLING CODE 4163-18-P